DEPARTMENT OF HOMELAND SECURITY

Federal Emergency Management Agency

[Docket ID FEMA-2014-0022]

Technical Mapping Advisory Council

AGENCY: Federal Emergency Management Agency, DHS

ACTION: Committee Management; Notice of Federal Advisory Committee Meeting.

SUMMARY: The Federal Emergency Management Agency (FEMA) Technical Mapping Advisory Council (TMAC) will meet in person on September 30- October 1, 2014, in Reston, Virginia. The meeting will be open to the public.

DATES: The TMAC will meet on September 30-October 1, 2014, from 8:30 a.m.-5:00 p.m. A public comment period will be held on September 30, 2014, from 9:45 a.m.-10:15 a.m. regarding the issues the committee will consider, as listed in the Supplementary Information section below.

ADDRESSES: The meeting will be held at the United States Geological Survey Auditorium, located at 12201 Sunrise Valley Drive, Reston, Virginia 20192.

For information on facilities or services for individuals with disabilities or to request special assistance at the meeting, contact the person listed in “For Further Information Contact:” below as soon as possible.

To facilitate public participation, members of the public are invited to provide written comments on the issues to be considered by the TMAC, as listed in the “Supplementary Information” section below. Associated briefing materials that will be discussed at the meeting will be available at www.fema.gov/TMAC for review as of September 15, 2014. Written comments must be submitted and received by September 22, 2014, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include the docket number in the subject line of the message. Include name and contact detail in the body of the email.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read background documents or comments received by the TMAC, go to http://www.regulations.gov and search for the Docket ID FEMA-2014-0022.

A public comment period will be held during the open portion of the meeting on September 30, 2014, from 9:45 a.m.-10:15 a.m. and speakers are requested to limit their comments to no more than three minutes. The public comment period will not exceed thirty minutes. Please note that the public comment period may end before the time indicated, following the last call for comments. Contact the individual listed below to register as a speaker by close of business on September 22, 2014.

FOR FURTHER INFORMATION CONTACT: Mark Crowell, Designated Federal Officer for the TMAC, FEMA, 1800 South Bell Street Arlington, VA 22202, telephone (202) 646-3432, or email mark.crowell@fema.dhs.gov. The TMAC Web site is: http://www.fema.gov/TMAC.

SUPPLEMENTARY INFORMATION: Notice of this meeting is given under the Federal Advisory Committee Act, 5 U.S.C. Appendix.

As required by the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps; and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination; and (b) a funding strategy to leverage and coordinate budgets and expenditures across Federal agencies.

In accordance with the Biggert-Waters Flood Insurance Reform Act of 2012, the TMAC must develop recommendations on how to ensure that Flood Insurance Rate Maps (FIRMs) incorporate the best available climate science to assess flood risks and ensure that FEMA uses the best available methodology to consider the impact of the rise in sea level and future development on flood risk. The TMAC must also develop a review report related to the implementation of a flood mapping program for the National Flood Insurance Program (NFIP).

Agenda: At the meeting, members will be informed of FEMA's vision, priorities, duties, reports, assignments, and structure for the TMAC. In addition, members will receive briefings on and discuss the following: future conditions risk assessment and modeling; Flood Insurance Rate Map accuracy, quality, ease of use, distribution, and dissemination; data accuracy, data quality, data currency, and data eligibility; performance metrics and milestones required to effectively and efficiently map flood risk areas; maintaining flood insurance rate maps and food risk identification; and delegating mapping activities to State and local mapping partners. There will be a public comment period on September 30 from 9:45 a.m. to 10:15 a.m. In addition, there will be 15 minute segments set aside towards the end of both days for comments from the public. The full agenda and related briefing materials will be available at http://www.fema.gov/TMAC.

Dated: September 10, 2014.
W. Craig Fugate,
Administrator, Federal Emergency Management Agency.

[FR Doc. 2014-21929 Filed 9-12-14; 8:45 am]

BILLING CODE 9110-12-P